ENVIRONMENTAL PROTECTION AGENCY

[FRL-7173-4]

RIN 2040-AB75

Meeting of the National Drinking Water Advisory Council; Notice of Public Meeting

AGENCY: Environmental Protection Agency.

ACTION: Notice.

SUMMARY: Under Section 10(a)(2) of Public Law 92-423, “The Federal Advisory Committee Act,” notice is hereby given that a meeting of the National Drinking Water Advisory Council established under the Safe Drinking Water Act, as amended (42 U.S.C. S3300f et seq.), will be held on May 8, 2002, from 9 a.m. until 5 p.m. and May 9, 2002, from 8:30 a.m. until 12:30 p.m., Eastern Standard Time, in Room 1133, U.S. Environmental Protection Agency, 1200 Pennsylvania Avenue, NW., Washington, D.C. 20460. The Council will hear presentations and have discussions on topics important to the Environmental Protection Agency's national drinking water program, including: The States' perspectives on drinking water program implementation; the Agency's approach to developing future contaminant candidate lists; progress and key issues regarding water infrastructure protection activities; updates on key regulatory activities; and arsenic rule implementation, including exemptions, unreasonable risk to health, and point-of-use devices.

The Council encourages the hearing of outside statements and will allocate one hour for this purpose. Oral statements will be limited to five minutes, and it is preferred that only one person present the statement. Any outside parties interested in presenting an oral statement should petition the Council by telephone at (202) 564-3791 before April 25, 2002.

Any person who wishes to file a written statement can do so before or after a Council meeting. Written statements received prior to the meeting will be distributed to all members of the Council before any final discussion or vote is completed. Any statements received after the meeting will become part of the permanent meeting file and will be forwarded to the Council members for their information.

DATES: The meetings will be held on May 8th and May 9th in Washington, DC.

FOR FURTHER INFORMATION CONTACT: Members of the public that would like to attend the meeting, present an oral statement, or submit a written statement, should contact Brenda Johnson, Designated Federal Officer, National Drinking Water Advisory Council, U.S. EPA, Office of Ground Water and Drinking Water (4601), 401 M Street SW., Washington, DC 20460. The telephone number is Area Code (202) 564-3791 or E-Mail johnson.brendap@epa.gov

Dated: April 15, 2002.
Cynthia C. Dougherty,
Director, Office of Ground Water and Drinking Water.

[FR Doc. 02-9652 Filed 4-18-02; 8:45 am]

BILLING CODE 6560-50-P